SOCIAL SECURITY ADMINISTRATION

20 CFR Parts 404, 405, 408, 416, and 418

[Docket No. SSA-2009-0062]

RIN 0960-AH16

Technical Amendment Language Change From “Wholly” to “Fully”

AGENCY: Social Security Administration.

ACTION: Final rules; technical amendment.

SUMMARY: These final rules amend our regulations to replace the word “wholly” with the word “fully” when we describe the favorable or unfavorable nature of determinations or decisions we make on claims for benefits. This change does not alter the substance of the regulations or have any effect on the rights of claimants or any other parties.

DATES: These final rules are effective June 11, 2010.

FOR FURTHER INFORMATION CONTACT: For information about these final rules, call Brian J. Rudick, Office of Regulations, Social Security Administration, 6401 Security Boulevard, Baltimore, MD 21235-6401, (410) 965-7102. For information on eligibility or filing for benefits, call our national toll-free number, 1-800-772-1213 or TTY 1-800-325-0778, or visit our Internet site, Social Security Online, at http://www.socialsecurity.gov.

SUPPLEMENTARY INFORMATION: We are changing the word “wholly” to “fully” in a number of places in our regulations. We have used the words “wholly” and “fully” interchangeably in our prior regulations when we refer to determinations or decisions that provide a claimant with all of the relief that he or she seeks. For example, in our rules regarding the administrative review process in subpart J of part 404 of our rules, we sometimes used the phrase “wholly favorable” and other times used the phrase “fully favorable” to mean the same thing. We believe that using the phrase “fully favorable” throughout these rules will make our regulations clearer and more consistent. These editorial changes do not alter the substance of the regulations and will not affect the rights of claimants or any other parties.

Electronic Version

The electronic file of this document is available on the date of publication in the Federal Register at http://www.gpoaccess.gov/fr/index.html.

Regulatory Procedures

We follow the Administrative Procedure Act (APA) rulemaking procedures specified in 5 U.S.C. 553 when we develop regulations. Section 702(a)(5) of the Social Security Act, 42 U.S.C. 902(a)(5). The APA provides exceptions to its notice and public comment procedures when an agency finds there is good cause for dispensing with such procedures because they are impracticable, unnecessary, or contrary to the public interest. 5 U.S.C. 553(b)(B). The changes we are making in these rules promote clear and consistent regulations by ensuring that we use only one term rather than two essentially synonymous terms to describe the nature of our determinations and decisions. The changes do not alter the substance of the regulations or have any effect on the rights of claimants or any other parties. We believe the public would not be particularly interested in commenting on these changes. Therefore, we have determined that opportunity for prior comment is unnecessary, and we are issuing these rules as final rules.

In addition, because we are not making any substantive changes to the existing rules, we find there is good cause for dispensing with the 30-day delay in the effective date of a substantive rule provided by 5 U.S.C. 553(d)(3). Since these changes merely simplify the wording of the regulations, we find that it is unnecessary to delay the effective date of the rules and that it is in the public interest to make these final rules effective on the date of publication.

Executive Order 12866

We have consulted with the Office of Management and Budget (OMB) and determined that these final rules do not meet the criteria for a significant regulatory action under Executive Order 12866 and were not subject to OMB review.

Regulatory Flexibility Act

We certify that these final rules will not have a significant economic impact on a substantial number of small entities because they only affect States and individuals. Therefore, a regulatory flexibility analysis is not required under the Regulatory Flexibility Act, as amended.

Paperwork Reduction Act

These rules do not create any new or affect any existing collections and, therefore, do not require Office of Management and Budget approval under the Paperwork Reduction Act.

List of Subjects

20 CFR Part 404

Administrative practice and procedure; Blind; Disability benefits; Old-age, Survivors, and Disability Insurance; Reporting and recordkeeping requirements; Social security.

20 CFR Part 405

Administrative practice and procedure; Blind; Disability benefits; Old-age, Survivors, and Disability Insurance; Public assistance programs; Reporting and recordkeeping requirements; Social security; Supplemental Security Income (SSI).

20 CFR Part 408

Administrative practice and procedure; Aged; Reporting and recordkeeping requirements; Social security; Supplemental Security Income (SSI); Veterans.

20 CFR Part 416

Administrative practice and procedure; Reporting and recordkeeping requirements; Supplemental Security Income (SSI).

20 CFR Part 418

Administrative practice and procedure; Aged, Blind, Disability benefits, Public assistance programs, Reporting and recordkeeping requirements; Supplemental Security Income (SSI), Medicare subsidies.

Michael J. Astrue,
Commissioner of Social Security.

For the reasons set out in the preamble, we are amending Chapter III of title 20 of the Code of Federal Regulations as set forth below:

PART 404—FEDERAL OLD-AGE, SURVIVORS AND DISABILITY INSURANCE (1950- )

Subpart J—[Amended]

1. The authority citation for subpart J of part 404 continues to read as follows:

Authority: Secs. 201(j), 204(f), 205(a), (b), (d)-(h), and (j), 221, 223(i), 225, and 702(a)(5) of the Social Security Act (42 U.S.C. 401(j), 404(f), 405(a), (b), (d)-(h), and (j), 421, 423(i), 425, and 902(a)(5)); sec. 5, Pub. L. 97-455, 96 Stat. 2500 (42 U.S.C. 405 note); secs. 5, 6(c)-(e), and 15, Pub. L. 98-460, 98 Stat. 1802 (42 U.S.C. 421 note); sec. 202, Pub. L. 108-203, 118 Stat. 509 (42 U.S.C. 902 note).

§ 404.941 [Amended]

2. In § 404.941, amend the third sentence of paragraph (a) by removing the words “wholly or partially favorable” and adding in their place the words “fully or partially favorable”, and amend the heading and the first sentence of paragraph (d) by removing the words “wholly favorable” and adding in their place the words “fully favorable”.

§ 404.943 [Amended]

3. In § 404.943, amend the fifth sentence of paragraph (a)(1), the third sentence of paragraph (b)(1), the heading and first sentence of (c)(1), the first sentence of (c)(2) introductory text, and the first sentence of (c)(3) by removing the words “wholly favorable” and adding in their place the words “fully favorable”.

§ 404.948 [Amended]

4. In § 404.948, amend the heading of paragraph (a) by removing the words “wholly favorable” and adding in their place the words “fully favorable”.

§ 404.953 [Amended]

5. In § 404.953, amend the paragraph heading, and the first, second, and fifth sentences of paragraph (b) by removing the words “wholly favorable” and adding in their place the words “fully favorable”.

§ 404.966 [Amended]

6. In § 404.966, amend the second sentence of paragraph (a) by removing the words “wholly favorable” and adding in their place the words “fully favorable”.

§ 404.969 [Amended]

7. In § 404.969, amend the first sentence of paragraph (b)(1) by removing the words “wholly or partially favorable” and adding in their place the words “fully or partially favorable”.

§ 404.988 [Amended]

8. In § 404.988, amend paragraph (c)(8) by removing the words “wholly or partially unfavorable” and adding in their place the words “fully or partially unfavorable”.

Subpart Q—[Amended]

9. The authority citation for subpart Q of part 404 continues to read as follows:

Authority: Secs. 205(a), 221, and 702(a)(5) of the Social Security Act (42 U.S.C. 405(a), 421, and 902(a)(5)).

§ 404.1618 [Amended]

10. In § 404.1618, remove the words “wholly or partly unfavorable” and add in their place the words “fully or partially unfavorable”.

PART 405—ADMINISTRATIVE REVIEW PROCESS FOR ADJUDICATING INITIAL DISABILITY CLAIMS

Subpart D—[Amended]

11. The authority citation for part 405 continues to read as follows:

Authority: Secs. 201(j), 205(a)-(b), (d)-(h), and (s), 221, 223(a)-(b), 702(a)(5), 1601, 1602, 1631, and 1633 of the Social Security Act (42 U.S.C. 401(j), 405(a)-(b), (d)-(h), and (s), 421, 423(a)-(b), 902(a)(5), 1381, 1381a, 1383, and 1383b).

§ 405.340 [Amended]

12. In § 405.340, amend the heading of paragraph (a) by removing the words “wholly favorable” and adding in their place the words “fully favorable”, and revise the first sentence of paragraph (a) by removing the word “wholly” and adding in its place the word “fully”.

§ 405.370 [Amended]

13. In § 405.370, amend the first sentence of paragraph (b) by removing the words “wholly favorable” and adding in their place the words “fully favorable”.

PART 408—SPECIAL BENEFITS FOR CERTAIN WORLD WAR II VETERANS

Subpart J—[Amended]

14. The authority citation for subpart J of part 408 continues to read as follows:

Authority: Secs. 702(a)(5) and 809 of the Social Security Act (42 U.S.C. 902(a)(5) and 1009).

§ 408.1070 [Amended]

15. In § 408.1070, amend paragraph (b)(1) introductory text by removing the words “wholly or partially favorable” and adding in their place the words “fully or partially favorable”.

PART 416—SUPPLEMENTAL SECURITY INCOME FOR THE AGED, BLIND, AND DISABLED

Subpart J—[Amended]

16. The authority citation for subpart J of part 416 continues to read as follows:

Authority: Secs. 702(a)(5), 1614, 1631, and 1633 of the Social Security Act (42 U.S.C. 902(a)(5), 1382c, 1383, and 1383b).

§ 416.1018 [Amended]

17. In § 416.1018, remove the words “wholly or partly unfavorable” and add in their place the words “fully or partially unfavorable”.

Subpart N—[Amended]

18. The authority citation for subpart N of part 416 continues to read as follows:

Authority: Secs. 702(a)(5), 1631, and 1633 of the Social Security Act (42 U.S.C. 902(a)(5), 1383, and 1383b); sec. 202, Pub. L. 108-203, 118 Stat. 509 (42 U.S.C. 902 note).

§ 416.1441 [Amended]

19. In § 416.1441, amend the third sentence of paragraph (a) by removing the words “wholly or partially favorable” and adding in their place the words “fully or partially favorable”, and amend the heading and the first sentence of paragraph (d) by removing the words “wholly favorable” and adding in their place the words “fully favorable”.

§ 416.1443 [Amended]

20. In § 416.1443, amend the fifth sentence of paragraph (a)(1), the third sentence of paragraph (b)(1), the heading and first sentence of paragraph (c)(1), the first sentence of paragraph (c)(2), and the first sentence of paragraph (c)(3) by removing the words “wholly favorable” and adding in their place the words “fully favorable”.

§ 416.1448 [Amended]

21. In § 416.1448, amend the heading of paragraph (a) by removing the words “wholly favorable” and adding in their place the words “fully favorable”.

§ 416.1453 [Amended]

22. In § 416.1453, amend the paragraph heading, the first sentence, the second sentence, and the fifth sentence of paragraph (b) by removing the words “wholly favorable” and adding in their place the words “fully favorable”.

§ 416.1466 [Amended]

23. In § 416.1466, amend the second sentence of paragraph (a) by removing the words “wholly favorable” and adding in their place the words “fully favorable”.

§ 416.1469 [Amended]

24. In § 416.1469, amend the first sentence of paragraph (b)(1) by removing the words “wholly or partially favorable” and adding in their place the words “fully or partially favorable”.

PART 418—MEDICARE SUBSIDIES

Subpart D—[Amended]

25. The authority citation for subpart D of part 418 continues to read as follows:

Authority: Secs. 702(a)(5) and 1860D-1, 1860D-14 and -15 of the Social Security Act (42 U.S.C. 902(a)(5), 1395w-101, 1395w-114, and -115).

§ 418.3680 [Amended]

26. In § 418.3680, amend the second sentence by removing the words “wholly favorable” and adding in their place the words “fully favorable”.

[FR Doc. 2010-13987 Filed 6-10-10; 8:45 am]

BILLING CODE 4191-02-P